DEPARTMENT OF COMMERCE

Performance Review Board Membership

AGENCY: Economics and Statistics Administration, Department of Commerce.

ACTION: Notice.

SUMMARY: Below is a listing of individuals who are eligible to serve on the Performance Review Board (PRB) in accordance with the Economics and Statistics Administration's Senior Executive Service and Senior Professional Performance Management Systems:

Kenneth A. Arnold

Lisa M. Blumerman

William G. Bostic, Jr.

Stephen B. Burke

Joanne Buenzli Crane

Austin J. Durrer

William W. Hatcher

Susan R. Helper

Ron S. Jarmin

Enrique Lamas

Brian E. McGrath

Brent R. Moulton

Brian C. Moyer

Carol E. Moylan

Joel D. Platt

Nancy A. Potok

Jeannie L. Shiffer

Sarahelen Thompson

Katherine K. Wallman

The term of each PRB member will expire on December 31, 2016.

FOR FURTHER INFORMATION CONTACT: Latasha Ellis, 301-763-3727

Dated: October 8, 2014.
Kenneth A. Arnold,
Deputy Under Secretary for Economic Affairs, Chair, Performance Review Board.

[FR Doc. 2014-24932 Filed 10-20-14; 8:45 am]

BILLING CODE 3510-BS-P